DEPARTMENT OF COMMERCE

National Oceanic and Atmospheric Administration

50 CFR Part 660

[I.D. 042406G]

Notice of Public Hearings for Measures to End Bottomfish Overfishing in the Hawaii Archipelago

AGENCY: National Marine Fisheries Service (NMFS), National Oceanic and Atmospheric Administration, (NOAA), Commerce.

ACTION: Notice of public hearings.

SUMMARY: NMFS announces three public hearings on the Draft Supplemental Environmental Impact Statement, Bottomfish and Seamount Groundfish Fisheries of the Western Pacific Region, Measures to End Bottomfish Overfishing in the Hawaii Archipelago (DSEIS). The DSEIS was prepared pursuant to the National Environmental Policy Act of 1969 (NEPA), as amended, the Council on Environmental Quality NEPA regulations, and NOAA Administrative Order Series 216-6 Environmental Review Procedures for Implementing the National Environmental Policy Act.

DATES: The public hearings will be held May 18, 22, and 25, 2005, respectively. For specific dates, times and locations of the public hearings, and the agenda see SUPPLEMENTARY INFORMATION.

ADDRESSES: The DSEIS is accessible electronically through the NMFS Pacific Islands Regional Office Web site at http://swr.nmfs.noaa.gov/pir or at the Western Pacific Fishery

Management Council (Council) website at http://www/wpcouncil.org. State of Hawaii public libraries were provided with copies of the DSEIS to be made available for inspection. Copies of the DSEIS may also be obtained from Keith Schultz, NEPA Specialist; 1601 Kapiolani Boulevard, Suite 1110, Honolulu, HI 96814, 808-944-2276. Please specify when requesting if you would prefer a hard copy of the document, otherwise a CD may be provided. State of Hawaii public libraries were also provided with copies of the DSEIS.

Comments or questions submitted on the DSEIS must be received by May 30, 2006. Written comments should be submitted by mail to: William L. Robinson, Pacific Islands Regional Administrator, National Marine Fisheries Service, 1601 Kapiolani Blvd., Honolulu, HI 96814. Comments may be submitted by facsimile (fax) to 808-973-2941. Electronic comments may be submitted by e-mail to include in the comment subject line the following document identifier: Bottomfish Overfishing DSEIS, or through the internet at the Federal eRulemaking Portal: http://www.regulations.gov.. A copy of your comments should be submitted to Rodney F. Weiher, PhD., NEPA Coordinator, by mail to the NOAA Strategic Planning Office (PPI/SP), SSMC3, Room 15603, 1315 East-West Highway, Silver Spring, Maryland 20910; by fax to 301-713-0585; or by e-mail to nepa.comments@noaa.gov.

The public comment period began on April 14, 2006, with the publication of the Notice of Availability of the DSEIS in the Federal Register by the Environmental Protection Agency and will continue until May 30, 2006. Written and oral comments will be given equal weight, and NMFS will consider all comments received by May 30, 2006, in preparing the Final Supplemental Environmental Impact Statement. Comments received after that date will be considered to the extent practicable.

FOR FURTHER INFORMATION CONTACT: For general information on the NEPA process or to request a copy of the DSEIS, contact: Keith Schultz, NEPA Specialist, as indicated in the ADDRESSES section of this document.

SUPPLEMENTARY INFORMATION:

Background Information

On May 27, 2005, the Regional Administrator for the NMFS Pacific Islands Region notified the Council that overfishing of the bottomfish species complex is occurring within the Hawaiian Archipelago. In accordance with the Magnuson-Stevens Fishery Conservation and Management Act (Magnuson-Stevens Act), the Council is preparing an amendment to the Bottomfish FMP to end overfishing in the bottomfish complex in the Hawaiian Archipelago. Bottomfish in the Hawaiian Archipelago are a collection, or complex, of deep-slope snappers, groupers, and jacks. The primary species addressed in the DSEIS are the “Deep 7” bottomfish species. The Deep 7 bottomfish species are: onaga (Etelis corsucans), ehu (Eetelis carbunculus), gindai (Pristipomoides zonatus), kalekale (Pristipomoides sieboldii), hapuupuu (Epinephelus quernus), opakapaka (Pristipomoides filamentosus), and lehi (Aphareus rutilans). The DSEIS examines Hawaii's bottomfish fisheries, describes the alternatives being considered to end the overfishing, and identifies the impacts associated with each alternative.

Proposed Federal Action

The proposed Federal action in the DSEIS is the approval of an amendment to end overfishing of Hawaii's archipelagic bottomfish multi-species stock complex by the Secretary of Commerce and the implementation and enforcement of the amendment's regulatory measures by NMFS. The proposed Federal action in the DSEIS would be the implementation of a seasonal closure between May 1 and August 31 prohibiting the targeting, possession, landing, or selling of any of Hawaii's Deep 7 bottomfish species. However, if the State of Hawaii does not commit to promulgate seasonal closure regulations, the proposed Federal action would be the implementation of a closure of Middle and Penguin Banks to the targeting, possession, landing, or selling of any of Hawaii's Deep 7 bottomfish species from Middle and Penguin Banks.

Guideline Hearing Agenda

All attendees wishing to comment during the public hearing must register during the registration period for the hearing.

Availability of the DSEIS

The following format will be used as a guideline for conducting the hearing.

1. Open the Hearing

2. Introductions and Hearing Procedures

3. Presentation of the Proposed Action and the Alternatives

4. Opportunity for Public to Ask Questions to Clarify Points Made in the Presentation

5. Public Comment

6. Close the Hearing

Dates, Times and Locations of Public Hearings

(1) Maui, HI—Thursday, May 18, 2006, from 7-9 p.m., at the Maui Beach Hotel, 170 Maahumanu Ave., Maui, island of Maui Beach Hotel, 170 Kaahumanu Avenue, Kahului, HI 96732;

(2) Kauai, HI—Monday, May 22, 2006, from 7-9 p.m., at the Chiefess Kamakahelei Middle School, 4431 Nuhou St, Lihue, HI 96766; and

(3) Honolulu, HI—Thursday, May 25, 2006, from 7-9 p.m. at the Ala Moana Hotel, 410 Atkinson Drive, Honolulu, Oahu.

Special Accommodations

These hearings are physically accessible to people with disabilities. Requests for sign language interpretation or other auxiliary aids should be directed to Keith Schultz, 808-944-2276, at least five (5) business days prior to the meeting date.

Authority: 16 U.S.C. 1801 et seq.
Dated: April 25, 2006.
Alan D. Risenhoover,
Acting Director, Office of Sustainable Fisheries, National Marine Fisheries Service.

[FR Doc. E6-6502 Filed 4-28-06; 8:45 am]

BILLING CODE 3510-22-S